DEPARTMENT OF AGRICULTURE

U.S. Codex Office

[Docket No. FSIS-2018-0035]

Codex Alimentarius Commission: Meeting of the Codex Committee on Food Import and Export Inspection and Certification Systems (CCFICS)

AGENCY: U.S. Codex Office.

ACTION: Notice of public meeting and request for comments.

SUMMARY: The U.S. Codex Office is sponsoring a public meeting on September 26, 2018. The objective of the public meeting is to provide information and receive public comments on agenda items and draft United States positions to be discussed at the 24th Session of the Codex Committee on Food Import and Export Inspection and Certification Systems (CCFICS) of the Codex Alimentarius Commission (Codex), taking place in Brisbane, Australia, October 22-26, 2018. The U.S. Manager for Codex Alimentarius and the Under Secretary, Office of Trade and Foreign Agricultural Affairs, recognize the importance of providing interested parties the opportunity to obtain background information on the 24th Session of the CCFICS and to address items on the agenda.

DATES: The public meeting is scheduled for Wednesday, September 26, from 2:00 p.m. to 4 p.m.

ADDRESSES: The public meeting will take place at the United States Department of Agriculture (USDA), Jamie L. Whitten Building, 1400 Independence Avenue SW, Room 107-A, Washington, DC 20250.

Documents related to the 24th Session of the CCFICS will be accessible via the internet at the following address: http://www.codexalimentarius.org/meetings-reports/en.

Mary Stanley, U.S. Delegate to the 24th Session of the CCFICS invites U.S. interested parties to submit their comments electronically to the following email address: Mary.Stanley@fsis.usda.gov.

Call-In-Number: If you wish to participate in the public meeting for the 24th Session of the CCFICS by conference call, please use the call-in-number listed below:

Call-In-Number: 1-888-844-9904.

The participant code will be posted on the web page below: http://www.fsis.usda.gov/wps/portal/fsis/topics/international-affairs/us-codex-alimentarius/public-meetings.

Registration: Attendees may register to attend the public meeting by emailing Ken.Lowery@osec.usda.gov by September 22, 2018. Early registration is encouraged because it will expedite entry into the building. The meeting will take place in a Federal building. Attendees should bring photo identification and plan for adequate time to pass through the security screening systems. Attendees who are not able to attend the meeting in person, but who wish to participate, may do so by phone, as discussed above.

FOR FURTHER INFORMATION CONTACT: About the 24th Session of the CCFICS—Mary Stanley, Senior Advisor, Office of International Coordination, Food Safety and Inspection Service, U.S. Department of Agriculture, 1400 Independence Avenue SW, Room 2925, South Agriculture Building, Washington, DC 20250, Phone: (202) 720-0287, Fax: (202) 720-4929, Email: Mary.Stanley@fsis.usda.gov.

About the public meeting—Kenneth Lowery, U.S. Codex Office, 1400 Independence Avenue SW, Room 4861, South Agriculture Building, Washington, DC 20250 Phone: (202) 690-4042, Fax: (202) 720-3157, Email: Ken.Lowery@osec.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFICS is responsible for:

(a) Developing principles and guidelines for food import and export inspection and certification systems, with a view to harmonizing methods and procedures that protect the health of consumers, ensure fair trading practices, and facilitate international trade in foodstuffs;

(b) Developing principles and guidelines for the application of measures by the competent authorities of exporting and importing countries to provide assurance, where necessary, that foodstuffs comply with requirements, especially statutory health requirements;

(c) Developing guidelines for the utilization, as and when appropriate, of quality assurance systems to ensure that foodstuffs conform with requirements and to promote the recognition of these systems in facilitating trade in food products under bilateral/multilateral arrangements by countries;

(d) Developing guidelines and criteria with respect to format, declarations and language of such official certificates as countries may require with a view towards international harmonization;

(e) Making recommendations for information exchange in relation to food import/export control;

(f) Consulting as necessary with other international groups working on matters related to food inspection and certification systems; and

(g) Considering other matters assigned to it by the Commission in relation to food inspection and certification systems.

The CCFICS is hosted by Australia. The United States attends CCFICS as a member country of Codex.

Issues To Be Discussed at the Public Meeting

The following items on the Agenda for the 24th Session of the CCFICS will be discussed during the public meeting:

• Matters referred by the Codex Alimentarius Commission and its subsidiary bodies

• Information on activities of FAO and WHO and other international organizations relevant to the work of CCFICS

• Proposed draft guidance on the use of systems equivalence

• Proposed draft guidance on paperless use of electronic certificates (revision of the Guidelines for Design, Production, Issuance and Use of Generic Official Certificates)

• Proposed draft guidance on regulatory approaches to third party assurance schemes in food safety and fair practices in the food trade

• Discussion paper on food integrity and food authenticity

• Discussion paper on consideration of emerging issues and future directions for the work of CCFICS

• Assessment of the experimental approach for intersessional Physical Working Groups (PWGs)

• Other businesses and future work

Each issue listed will be fully described in documents distributed, or to be distributed by the Secretariat before to the Committee Meeting. Members of the public may access or request copies of these documents (see ADDRESSES).

Public Meeting

At the September 26, 2018, public meeting, draft U.S. positions on the agenda items will be described and discussed, and attendees will have the opportunity to pose questions and offer comments. Written comments may be offered at the meeting or sent to Mary Stanley, U.S. Delegate for the 24th Session of the CCFICS (see ADDRESSES). Written comments should state that they relate to activities of the 24th Session of the CCFICS.

Additional Public Notification

Public awareness of all segments of rulemaking and policy development is important. Consequently, the U.S. Codex Office will announce this Federal Register publication on-line through the FSIS web page located at: http://www.fsis.usda.gov/federal-register. The U.S. Codex Office also offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on August 15, 2018.
Mary Lowe,
U.S. Manager for Codex Alimentarius.

[FR Doc. 2018-19323 Filed 9-5-18; 8:45 am]

BILLING CODE 3410-DM-P